ENVIRONMENTAL PROTECTION AGENCY

40 CFR Part 52

[SC-2018; FRL-9990-38-Region 4]

Air Plan Approval; South Carolina; Update to Materials Incorporated by Reference

AGENCY: Environmental Protection Agency (EPA).

ACTION: Final rule; notification of administrative change.

SUMMARY: The Environmental Protection Agency (EPA) is updating the materials that are incorporated by reference (IBR) into the South Carolina state implementation plan (SIP). The regulations affected by this update have been previously submitted by South Carolina and approved by EPA. This update affects the materials that are available for public inspection at the National Archives and Records Administration (NARA) and the EPA Regional Office.

DATES: This rule will be effective March 22, 2019.

ADDRESSES: SIP materials which are incorporated by reference into 40 CFR part 52 are available for inspection at the following locations: Environmental Protection Agency, Region 4, 61 Forsyth Street SW, Atlanta, GA 30303; and the National Archives and Records Administration. For information on the availability of this material at NARA, call 202-741-6030, or go to: http://www.archives.gov/federal-register/cfr/ibr-locations.html. To view the materials at the Region 4 Office, EPA requests that you email the contact listed in the FOR FURTHER INFORMATION CONTACT section to schedule your inspection. The Regional Office's official hours of business are Monday through Friday 8:30 a.m. to 4:30 p.m., excluding Federal holidays.

FOR FURTHER INFORMATION CONTACT: D. Brad Akers, Air Regulatory Management Section, Air Planning and Implementation Branch, Air, Pesticides and Toxics Management Division, Region 4, U.S. Environmental Protection Agency, 61 Forsyth Street SW, Atlanta, Georgia 30303-8960. Mr. Akers can be reached via telephone at (404) 562-9089 and via electronic mail at akers.brad@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52—“Approval and Promulgation of Implementation Plans,” title 40 of the Code of Federal Regulations (40 CFR part 52). The full text of the state regulation approved by EPA is not reproduced in its entirety in 40 CFR part 52, but is “incorporated by reference.” This means that EPA has approved a given state regulation or specified changes to the given regulation with a specific effective date. The public is referred to the location of the full text version should they want to know which measures are contained in a given SIP. The information provided allows EPA and the public to monitor the extent to which a state implements a SIP to attain and maintain the NAAQS and to take enforcement action for violations of the SIP.

The SIP is a living document which the state can revise as necessary to address the unique air pollution problems in the state. Therefore, EPA from time to time must take action on proposed revisions containing new and/or revised state regulations. A submission from a state can revise one or more rules in their entirety or portions of rules, or even change a single word. The state indicates the changes in the submission (such as, by using redline/strikethrough) and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency.

These SIP Compilations are updated primarily on an annual basis. Under the revised procedures, EPA must periodically publish an informational document in the rules section of the Federal Register notifying the public that updates have been made to a SIP Compilation for a particular state. EPA applied the 1997 revised procedures to South Carolina on July 1, 1997 (62 FR 35441).

II. EPA Action

This action represents EPA's publication of the South Carolina SIP Compilation update, appearing in 40 CFR part 52: specifically, the materials in paragraphs (c) and (d) at 40 CFR 52.2120. In addition, notice is provided of the following corrections to paragraph (c) of § 52.2120, as described below.

Changes Applicable to EPA-Approved South Carolina Regulations

A. Revising the heading of paragraph (c) to read “EPA-Approved regulations” and the heading of the table in paragraph (c) to read “EPA-Approved South Carolina Regulations.”

B. Correcting Federal Register citations and entries listed in § 52.2120(c), as described below:

1. Under Regulation No. 62.1, entries for the state effective date and EPA approval date were removed because the entry represents only the title of the Regulation, while the Sections under the heading of the Regulation include specific approval information.

2. Under Regulation No. 62.1, “Section I,” the EPA approval date was corrected to read “6/26/2018, 83 FR 29696.”

3. Under Regulation No. 62.2, the EPA approval date was corrected to read “6/25/2018, 83 FR 29455.”

4. Under Regulation No. 62.5, Standard No. 1, “Section I,” the EPA approval date was corrected to read “6/25/2018, 83 FR 29455.”

5. Under Regulation No. 62.5, Standard No. 1, “Section II,” the EPA approval date was corrected to read “6/25/2018, 83 FR 29455.”

6. Under Regulation No. 62.5, Standard No. 1, “Section III,” the EPA approval date was corrected to read “6/25/2018, 83 FR 29455.”

7. Under Regulation No. 62.5, Standard No. 1, “Section IV,” the EPA approval date was corrected to read “6/25/2018, 83 FR 29455.”

8. Under Regulation No. 62.5, Standard No. 1, “Section VI,” the EPA approval date was corrected to read “6/25/2018, 83 FR 29455.”

9. Under Regulation No. 62.5, Standard No. 4, “Section II,” the EPA approval date was corrected to read “6/25/2018, 83 FR 29455.”

10. Under Regulation No. 62.5, Standard No. 4, “Section III,” the EPA approval date was corrected to read “6/25/2018, 83 FR 29455.”

11. Under Regulation No. 62.5, Standard No. 4, “Section V,” the EPA approval date was corrected to read “6/25/2018, 83 FR 29455.”

12. Under Regulation No. 62.5, Standard No. 4, “Section VIII,” the EPA approval date was corrected to read “6/25/2018, 83 FR 29455.”

13. Under Regulation No. 62.5, Standard No. 4, “Section XI,” the EPA approval date was corrected to read “6/25/2018, 83 FR 29455.”

14. Under Regulation No. 62.5, Standard No. 4, “Section XII,” the EPA approval date was corrected to read “6/25/2018, 83 FR 29455.”

15. Under Regulation No. 62.5, Standard No. 5, “Section I,” entries for the state effective date and EPA approval date were removed because the entry represents only the title of the Section, while the Parts under the heading of the Section include specific approval information.

16. Under Regulation No. 62.5, Standard No. 7.1, the explanation column was corrected to remove language applicable to Standard No. 7 and to clarify the applicable state-effective dates for Standard No. 7.1.

17. Under Regulation No. 62.6, entries for the state effective date and EPA approval date were removed because the entry represents only the title of the Regulation, while the Sections under the heading of the Regulation include specific approval information.

18. Under Regulation No. 62.7, entries for the state effective date and EPA approval date were removed because the entry represents only the title of the Regulation, while the Sections under the heading of the Regulation include specific approval information.

19. Under “Regulation No. 62.97,” the EPA approval date was corrected to read “10/13/2017, 82 FR 47936.”

III. Good Cause Exemption

EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, corrects typographical errors appearing in the CFR, and makes ministerial changes to the prefatory heading to the tables in the CFR. Under section 553(b)(3)(B) of the APA, an agency may find good cause where procedures are “impracticable, unnecessary, or contrary to the public interest.” Public comment for this administrative action is “unnecessary” and “contrary to the public interest” since the codification (and typographical corrections) only reflect existing law and the changes to the prefatory heading to the tables is ministerial in nature. Immediate notice of this action in the Federal Register benefits the public by providing the public notice of the updated South Carolina SIP Compilation and notice of typographical corrections and ministerial changes to the South Carolina “Identification of Plan” portion of the Federal Register. Further, pursuant to section 553(d)(3), making this action immediately effective benefits the public by immediately updating both the SIP Compilation and the CFR “Identification of plan” section (which includes table entry corrections).

IV. Incorporation by Reference

In this rule, EPA is finalizing regulatory text that includes incorporation by reference. In accordance with requirements of 1 CFR 51.5, EPA is finalizing the incorporation by reference of previously EPA-approved regulations promulgated by South Carolina and federally effective prior to October 1, 2018. EPA has made, and will continue to make, these materials generally available through www.regulations.gov and at the EPA Region 4 Office (please contact the person identified in the FOR FURTHER INFORMATION CONTACT section of this preamble for more information).

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. Accordingly, this notification of administrative change does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this notice of administrative change for the State of South Carolina does not have Tribal implications as specified by Executive Order 13175 (65 FR 67249, November 9, 2000), because it does not have substantial direct effects on an Indian Tribe. The Catawba Indian Nation Reservation is located within the boundary of York County, South Carolina. Pursuant to the Catawba Indian Claims Settlement Act, S.C. Code Ann. 27-16-120, “all state and local environmental laws and regulations apply to the [Catawba Indian Nation] and Reservation and are fully enforceable by all relevant state and local agencies and authorities.” EPA notes this action will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the South Carolina SIP Compilation previously afforded interested parties the opportunity to file a petition for judicial review in the United States Court of Appeals for the appropriate circuit within 60 days of such rulemaking action. Thus, EPA believes judicial review of this action under section 307(b)(1) is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: February 20, 2019.
Mary S. Walker,
Acting Regional Administrator, Region 4.

40 CFR part 52 is amended as follows:

PART 52—APPROVAL AND PROMULGATION OF IMPLEMENTATION PLANS

1. The authority for citation for part 52 continues to read as follows:

Authority: 42 U.S.C. 7401 et seq.

Subpart PP—South Carolina

2. In § 52.2120, paragraphs (b), (c), and (d) are revised to read as follows:

§ 52.2120 Identification of plan.

* * * * *

(b) Incorporation by reference. (1) Material listed in paragraphs (c) (Volume 1) and (d) (Volume 2) of this section with an EPA approval date prior to October 1, 2018, was approved for incorporation by reference by the Director of the Federal Register in accordance with 5 U.S.C. 552(a) and 1 CFR part 51. Material is incorporated as it exists on the date of the approval, and notice of any change in the material will be published in the Federal Register. Entries in paragraphs (c) (Volume 1) and (d) (Volume 2) of this section with EPA approval dates after October 1, 2018, will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street SW, Atlanta, GA 30303. To obtain the material, please call (404) 562-9022. You may inspect the material with an EPA approval date prior to October 1, 2018, for South Carolina at the National Archives and Records Administration. For information on the availability of this material at NARA go to: http://www.archives.gov/federal-register/cfr/ibr-locations.html.

(c) EPA-Approved regulations.

EPA-Approved South Carolina Regulations
State citation | Title/subject | State effective date | EPA approval date | Explanation
Regulation No. 62.1 | Definitions and General Requirements
Section I | Definitions | 8/25/2017 | 6/26/2018, 83 FR 29696
Section II | Permit Requirements | 6/24/2005 | 6/2/2008, 73 FR 31369
Section III | Emission Inventory and Emissions Statement | 9/23/2016 | 5/31/2017, 82 FR 24853
Section IV | Source Tests | 6/27/2014 | 8/21/2017, 82 FR 39537
Section V | Credible Evidence | 6/27/2014 | 8/21/2017, 82 FR 39537
Regulation No. 62.2 | Prohibition of Open Burning | 12/27/2013 | 6/25/2018, 83 FR 29455
Regulation No. 62.3 | Air Pollution Episodes
Section I | Episode Criteria | 4/26/2013 | 8/21/2017, 82 FR 39541
Section II | Emission Reduction Requirements | 4/22/1988 | 10/3/1989, 54 FR 40659
Regulation No. 62.4 | Hazardous Air Pollution Conditions | 12/20/1978 | 1/29/1980, 45 FR 6572
Regulation No. 62.5 | Air Pollution Control Standards
Standard No. 1 | Emissions from Fuel Burning Operations
Section I | Visible Emissions | 6/27/2014 | 6/25/2018, 83 FR 29455 | Except for subparagraph C “Special Provisions,” including those versions submitted by the State on July 18, 2011, and August 12, 2015. Therefore, subparagraph C retains the version that was state effective October 26, 2001.
Section II | Particulate Matter Emissions | 6/27/2014 | 6/25/2018, 83 FR 29455
Section III | Sulfur Dioxide Emissions | 6/27/2014 | 6/25/2018, 83 FR 29455
Section IV | Opacity Monitoring Requirements | 9/23/2016 | 6/25/2018, 83 FR 29455 | Except subparagraph B “Continuous Opacity Monitor Reporting Requirements,” including those versions submitted by the State on August 8, 2014, and August 12, 2015. Therefore, subparagraph B retains the version that was state effective September 28, 2012.
Section V | Exemptions | 5/24/1985 | 10/3/1989, 54 FR 40659
Section VI | Periodic Testing | 6/27/2014 | 6/25/2018, 83 FR 29455
Standard No. 2 | Ambient Air Quality Standards | 9/23/2016 | 6/29/2017, 82 FR 29418
Standard No. 4 | Emissions From Process Industries
Section I | General | 2/28/1986 | 2/17/1987, 52 FR 4772
Section II | Sulfuric Acid Manufacturing | 6/27/2014 | 6/25/2018, 83 FR 29455
Section III | Kraft Pulp and Paper Manufacturing Plants | 6/27/2014 | 6/25/2018, 83 FR 29455
Section V | Cotton Gins | 6/27/2014 | 6/25/2018, 83 FR 29455
Section VI | Hot Mix Asphalt Manufacturing | 5/24/1985 | 10/3/1989, 54 FR 40659
Section VII | Metal Refining | 2/28/1986 | 2/17/1987, 52 FR 4772
Section VIII | Other Manufacturing | 6/24/2016 | 6/25/2018, 83 FR 29455
Section IX | Visible Emissions | 4/22/1988 | 7/2/1990, 55 FR 27226
Section X | Non-Enclosed Operations | 4/22/1988 | 7/2/1990, 55 FR 27226
Section XI | Total Reduced Sulfur Emissions of Kraft Pulp Mills | 6/27/2014 | 6/25/2018, 83 FR 29455
Section XII | Periodic Testing | 6/24/2016 | 6/25/2018, 83 FR 29455
Standard No. 5 | Volatile Organic Compounds
Section I | General Provisions
Part A | Definitions | 4/26/2013 | 8/16/2017, 82 FR 38825
Part B | General Applicability | 10/26/2001 | 5/7/2002, 67 FR 30594
Part C | Alternatives and Exceptions to Control Requirements | 10/26/2001 | 5/7/2002, 67 FR 30594
Part D | Compliance Schedules | 10/26/2001 | 5/7/2002, 67 FR 30594
Part E | Volatile Organic Compound Compliance Testing | 6/26/1998 | 8/10/2004, 69 FR 48395
Part F | Recordkeeping, Reporting, Monitoring | 10/26/2001 | 5/7/2002, 67 FR 30594
Part G | Equivalency Calculations | 4/26/2013 | 8/16/2017, 82 FR 38825
Section II | Provisions for Specific Sources
Part A | Surface Coating of Cans | 11/27/2015 | 8/16/2017, 82 FR 38825
Part B | Surface Coating of Coils | 11/27/2015 | 8/16/2017, 82 FR 38825
Part C | Surface Coating of Paper, Vinyl, and Fabric | 8/24/1990 | 2/4/1992, 57 FR 4158
Part D | Surface Coating of Metal Furniture and Large Appliances | 8/24/1990 | 2/4/1992, 57 FR 4158
Part E | Surface Coating of Magnet Wire | 10/26/2001 | 5/7/2002, 67 FR 30594
Part F | Surface Coating of Miscellaneous Metal Parts and Products | 10/26/2001 | 5/7/2002, 67 FR 30594
Part G | Surface Coating of Flat Wood Paneling | 2/25/1983 | 10/31/1983, 48 FR 50078
Part H | Graphic Arts—Rotogravure Flexography | 2/25/1983 | 10/31/1983, 48 FR 50078
Part N | Solvent Metal Cleaning | 10/26/2001 | 5/7/2002, 67 FR 30594
Part O | Petroleum Liquid Storage in Fixed Roof Tanks | 2/25/1983 | 10/31/1983, 48 FR 50078
Part P | Petroleum Liquid Storage in External Floating Roof Tanks | 2/25/1983 | 10/31/1983, 48 FR 50078
Part Q | Manufacture of Synthesized Pharmaceutical Products | 4/26/2013 | 8/16/2017, 82 FR 38825
Part R | Manufacture of Pneumatic Rubber Tires | 2/25/1983 | 10/31/1983, 48 FR 50078
Part S | Cutback Asphalt | 6/13/1979 | 12/16/1981, 46 FR 61268
Part T | Bulk Gasoline Terminals and Vapor Collection Systems | 2/25/1983 | 10/31/1983, 48 FR 50078
Standard No. 5.2 | Control of Oxides of Nitrogen (NOX) | 6/25/2004 | 8/26/2005, 70 FR 50195
Standard No. 7 | Prevention of Significant Deterioration | 8/25/2017 | 2/13/2019, 84 FR 3705 | The SIP does not include the August 25, 2017 state-effective version of Standard No. 7, paragraphs (b)(32)(i)(a), (b)(32)(iii)(b)(t), and (i)(1)(vii)(t). Instead, the SIP includes the June 25, 2005 state-effective version of these paragraphs, conditionally approved by EPA on June 2, 2008, and fully approved on June 23, 2011.
|  |  |  | The SIP does not include Standard No. 7, paragraphs (b)(30)(v) and (b)(34)(iii)(d) because the state withdrew these paragraphs from EPA's consideration for approval on December 20, 2016.
|  |  |  | The SIP does not include the August 25, 2017 state-effective version of Standard No. 7, paragraph (b)(34)(iii)(c) because the state withdrew the August 25, 2017 state-effective version of this paragraph from EPA's consideration for approval on June 27, 2017. Instead, the SIP includes the June 25, 2005 state-effective version of this paragraph conditionally approved by EPA on June 2, 2008, and fully approved on June 23, 2011.
Standard No. 7.1 | Nonattainment New Source Review | 11/27/2015 | 8/10/2017, 82 FR 37299 | The SIP does not include the November 27, 2015 state-effective version of Standard No. 7.1, paragraphs (c)7(C)(xx) and (e)(T). Instead, the SIP includes the June 25, 2005 state-effective version of these paragraphs, conditionally approved by EPA on June 2, 2008, and fully approved on June 23, 2011.
Regulation No. 62.6 | Control of Fugitive Particulate Matter
Section I | Control of Fugitive Particulate Matter in Non-Attainment Areas | 11/27/2015 | 8/21/2017, 82 FR 39541
Section II | Control of Fugitive Particulate Matter in Problem Areas | 5/24/1985 | 10/3/1989, 54 FR 40659
Section III | Control of Fugitive Particulate Matter Statewide | 12/27/2013 | 8/21/2017, 82 FR 39541
Section IV | Effective Date | 5/24/1985 | 10/3/1989, 54 FR 40659
Regulation No. 62.7 | Good Engineering Practice Stack Height
Section I | General | 5/23/1986 | 5/28/1987, 52 FR 19858
Section II | Applicability | 5/23/1986 | 5/28/1987, 52 FR 19858
Section III | Definitions and Conditions | 5/23/1986 | 5/28/1987, 52 FR 19858
Section IV | Public Participation | 5/23/1986 | 5/28/1987, 52 FR 19858
Regulation No. 62.96 | Nitrogen Oxides (NOX) and Sulfur Dioxide (SO2) Budget Trading Program General Provisions | 10/24/2008 | 10/16/2009, 74 FR 53167
Regulation No. 62.97 | Cross-State Air Pollution Rule (CSAPR) Trading Program | 8/25/2017 | 10/13/2017, 82 FR 47936
Regulation No. 62.99 | Nitrogen Oxides (NOX) Budget Program Requirements for Stationary Sources Not in the Trading Program | 5/24/2002 | 6/28/2002, 67 FR 43546
S.C. Code Ann. | Ethics Reform Act
Section 8-13-100(31) | Definitions | 1/1/1992 | 8/1/2012, 77 FR 45492
Section 8-13-700(A) and (B) | Use of official position or office for financial gain; disclosure of potential conflict of interest | 1/1/1992 | 8/1/2012, 77 FR 45492
Section 8-13-730 | Membership on or employment by regulatory agency of person associated with regulated business | 1/1/1992 | 8/1/2012, 77 FR 45492

(d) EPA-Approved State source-specific requirements.

EPA-Approved South Carolina State Source-Specific Requirements
Name of source | Permit No. | State effective date | EPA approval date | Comments
Transcontinental Gas Pipeline Corporation Station 140 | 2060-0179-CD | 4/27/2004 | 4/23/2009, 74 FR 18471 | This permit is incorporated in fulfillment of the NOX SIP Call Phase II requirements for South Carolina.

* * * * *

[FR Doc. 2019-04499 Filed 3-21-19; 8:45 am]

BILLING CODE 6560-50-P